DEPARTMENT OF AGRICULTURE

Submission for OMB Review; Comment Request

June 19, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program—Supplemental Nutrition Assistance for Victims of Disasters.

OMB Control Number: 0584-0336.

Summary of Collection: The authority to operate the Disaster Supplemental Nutrition Assistance Program (D-SNAP) is found in section 5(h) of the Food and Nutrition Act of 2008, formerly the Food Stamp Act of 1977, as amended and the Disaster Relief Act of 1974, as amended by the Robert T. Stafford Disaster Relief and Assistance Act of 1988 authorizes the Secretary of Agriculture to establish temporary emergency standards of eligibility for victims of a disaster if the commercial channels of food distribution have been disrupted, and subsequently restored. Section 11(e)(14) of the Food and Nutrition Act authorizes the Secretary to require State agencies to develop a plan of operation that includes procedures for informing the public about the D-SNAP, including how to apply for benefits, coordination with Federal and private disaster relief agencies and local government officials, developing application procedures to reduce hardship and inconvenience and deter fraud, and instruct caseworkers in procedures for implementing and operating the DFSP.

Need and Use of the Information: This information collection concerns information obtain from State welfare agencies seeking to operate D-SNAP. A State agency request to operate a D-SNAP must contain the following information: Procedures for promptly assessing the geographical limits of the areas in need of D-SNAP assistance; household responsibilities; a description of post-disaster reviews; procedures to inform both the general public and households already certified under the disaster program if the operation of the D-SNAP is extended; procedures to issue benefits during a disaster; and procedures to coordinate with other State agencies to obtain additional workers and other personnel if needed to supplement the State agency's regular staff.

Description of Respondents: State, Local, or Tribal Government.

Number of Respondents: 14.

Frequency of Responses: Reporting: On occasion.

Total Burden Hours: 140.

Ruth Brown,
Departmental Information Collection Clearance Officer.

[FR Doc. E9-14850 Filed 6-23-09; 8:45 am]

BILLING CODE 3410-30-P